DEPARTMENT OF VETERANS AFFAIRS

[OMB Control No. 2900-0784]

Proposed Information Collection (NCA Pre-Need Determination of Eligibility for Burial) Activity: Comment Request

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each revised collection, and allow 30 days for public comment in response to the notice.

PRA submission describes the nature of the information collection and its expected cost and burden; it includes the actual data collection instrument. This notice solicits comments on information needed to determine a claimant's eligibility in advance of need for burial at a National Cemetery.

DATES: Written comments and recommendations on the proposed collection of information should be received on or before October 3, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0784” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0784.”

SUPPLEMENTARY INFORMATION: Under the PRA of 1995 (Pub. L. 104-13; 44 U.S.C. 3501-21), Federal agencies must obtain approval from the Office of Management and Budget (OMB) for each collection of information they conduct or sponsor. This request for comment is being made pursuant to section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: Application for Pre-Need Determination of Eligibility for Burial in a VA National Cemetery, VA Form 40-10007.

OMB Control Number: 2900-0784.

Type of Review: Revision of an approved collection.

Abstract: VA Form 40-10007 will be used to collect information from Veterans and their family members seeking a determination of eligibility for burial in a VA National Cemetery in advance of need. Such decisions are consistent with VA's plan to streamline access to VA benefits and to assist Veterans' families in better planning for their end of life matters. The Federal Register Notice with a 60-day comment period soliciting comments on this collection of information was published at 81FR 29330 on May 11, 2016.

Affected Public: Individuals or households.

Estimated Annual Burden: 12,000 hours.

Estimated Average Burden per Respondent: 20 minutes.

Frequency of Response: One-time.

Estimated Number of Respondents: 36,000.

By direction of the Secretary.
Cynthia Harvey-Pryor,
Program Specialist, Office of Privacy and Records Management, Department of Veterans Affairs.

[FR Doc. 2016-21066 Filed 8-31-16; 8:45 am]

BILLING CODE 8320-01-P